NATIONAL SCIENCE FOUNDATION

Membership of National Science Foundation's Senior Executive Service Performance Review Board

AGENCY: National Science Foundation.

ACTION: Notice.

SUMMARY: The National Science Foundation is announcing the members of the Senior Executive Service Performance Review Board.

ADDRESSES: Comments should be addressed to Branch Chief, Executive Services, Division of Human Resource Management, National Science Foundation, Room W15219, 2415 Eisenhower Avenue, Alexandria, VA 22314.

FOR FURTHER INFORMATION CONTACT: Ms. Jennifer Munz at the above address or (703) 292-2478.

SUPPLEMENTARY INFORMATION: The membership of the National Science Foundation's Senior Executive Service Performance Review Board is as follows:

F. Fleming Crim, Chief Operating Officer, Chairperson

Dianne Campbell Krieger, Chief Human Capital Officer & Division Director, Division of Human Resource Management

Dorothy Aronson, Chief Information Officer

Anne Kinney, Assistant Director, Directorate for Mathematical & Physical Sciences

Suzanne C. Iacono, Office Head, Office of Integrative Activities

Michael Wetklow, Deputy Chief Financial Officer and Division Director, Budget Division

Joanne Tornow, Acting Assistant Director, Directorate for Biological Sciences

Sylvia M. James, Acting Deputy Assistant Director, Directorate for Education and Human Resources

Erwin Gianchandani, Assistant Director, Directorate for Computer and Information Science and Engineering

This announcement of the membership of the National Science Foundation's Senior Executive Service Performance Review Board is made in compliance with 5 U.S.C. 4314(c)(4).

Dated: October 24, 2018.
Suzanne H. Plimpton,
Reports Clearance Officer, National Science Foundation.

[FR Doc. 2018-23589 Filed 10-26-18; 8:45 am]

BILLING CODE 7555-01-P